DEPARTMENT OF AGRICULTURE

Commodity Credit Corporation

Foreign Agricultural Service

Notice of Funding Availability: Inviting Applications for the Technical Assistance for Specialty Crops Program

SUMMARY: The Commodity Credit Corporation (CCC) announces that it is inviting proposals for the 2019 Technical Assistance for Specialty Crops (TASC) program. The TASC program is administered by personnel of the Foreign Agricultural Service (FAS) on behalf of CCC. The intended effect of this notice is to solicit proposals from the U.S. private sector and government agencies for fiscal year 2019 and to set out the criteria for the awarding of funds under the program. Future announcements of funding availability for the TASC program will be made through the Grants.gov website.

DATES: To be considered for funding, proposals must be received by 5 p.m. Eastern Daylight Time, on Friday, June 8, 2018. Any proposals received after this time will be considered only if funds remain available. FAS anticipates that the initial funding selections will be made by the end of December 2018, with the initial award dates estimated to be by the end of February 2019.

FOR FURTHER INFORMATION CONTACT: Applicants needing assistance should contact the Program Operations Division, Office of Trade Programs, Foreign Agricultural Service by courier: Room 6512, 1400 Independence Ave. SW, Washington, DC 20250, or by phone: (202) 720-4327, or by fax: (202) 720-9361, or by email: podadmin@fas.usda.gov. Information is also available on the FAS website at http://www.fas.usda.gov/programs/technical-assistance-specialty-crops-tasc.

SUPPLEMENTARY INFORMATION:

A. Funding Opportunity Description

Announcement Type: New.

Award Instrument: Grant.

Catalog of Federal Domestic Assistance (CFDA) Number: 10.604.

Authority: The TASC program is authorized by section 3205 of Public Law 107-171. The TASC regulations appear at 7 CFR part 1487.

Purpose: The TASC program is designed to assist U.S. organizations by providing funding for projects that seek to remove, resolve, or mitigate sanitary, phytosanitary, or technical barriers that prohibit or threaten the export of U.S. specialty crops. U.S. specialty crops, for the purpose of the TASC program, are defined to include all cultivated plants, or the products thereof, produced in the United States except wheat, feed grains, oilseeds, cotton, rice, peanuts, sugar, and tobacco.

This NOFA is being released prior to Congress appropriating funding for the TASC program for FY 2019. USDA makes no commitment to fund any particular application or to make a specific number of awards regardless of whether or at what level program funding for FY 2019 is provided.

B. Eligibility and Qualification Information

1. Eligible Organizations: Any U.S. organization, private or government, with a demonstrated role or interest in exporting U.S. agricultural specialty crops may apply to the program. Government organizations consist of Federal, State, and local agencies. Private organizations may include non-profit trade associations, universities, agricultural cooperatives, state regional trade groups, and private companies.

Foreign organizations, whether government or private, may participate as third parties in activities carried out by eligible organizations, but are not eligible for direct funding assistance through the program.

2. Qualification Information: To be found eligible for consideration, TASC proposals must address the following criteria:

• Projects should identify and address a clear sanitary, phytosanitary, or technical barrier that prohibits or threatens the export of U.S. specialty crops;

• Projects should demonstrably benefit the represented industry rather than a specific company or brand;

• Projects must address barriers to exports of commercially-available U.S. specialty crops;

• Projects should include an explanation as to what specifically could not be accomplished without Federal funding assistance and why the eligible organization(s) would be unlikely to carry out the project without such assistance; and

• Projects should include performance measures for quantifying progress and demonstrating results. In the development of performance measures, FAS believes the measures should meet the following criteria:

○ Aligned: The indicator should, as closely as possible, measure exactly the relevant result.

○ Clear: The indicator should be precise and unambiguous about what is being measured and how. There should be no doubt on how to measure or interpret the indicator.

○ Quantifiable: The indicator(s) should sufficiently capture all of the elements of a result.

○ Include an identified methodology: The data can be obtained to inform the indicator in a timely and efficient manner and the data are of high-quality.

The full set of indicators selected to monitor project performance should be sufficient to inform project management and oversight.

3. Funding Limits: Proposals that request more than $500,000 in funding in a given year will not be considered.

4. Limits on Proposals: Eligible organizations may submit multi-year proposals, although funding for continuing TASC projects is capped at five years. The five years do not have to be consecutive or conducted by the same entity, if the project is the same. Multi-year funding may, at FAS' discretion, be provided one year at a time with commitments beyond the first year subject to interim evaluations and funding availability. In order to validate funding eligibility, proposals must specify previous years of TASC funding for each proposed activity/title/market/constraint combination. Government entities are not eligible for multi-year funding.

Applicants may submit more than one proposal, and applicants with previously approved TASC proposals may apply for additional funding. However, the maximum number of approved projects that a TASC participant can have underway at any given time is five.

5. Cost-Sharing: Although highly encouraged, there is no cost share requirement for TASC proposals. FAS will, however, consider the applicant's willingness to contribute resources towards the project, including cash, goods, and services of the U.S. industry and foreign third parties, when determining which proposals are approved for funding.

6. Funding Restrictions: Funded projects may take place in the United States or abroad. Examples of project expenses that FAS may agree to reimburse under the TASC program include, but are not limited to: Initial pre-clearance programs, export protocol and work plan support, seminars and workshops, study tours, field surveys, development of pest lists, pest, disease, and fumigant research, reasonable logistical and administrative support, and travel and per diem expenses. Certain types of expenses are not eligible for reimbursement by the program, such as the costs of market research, advertising, or other promotional expenses, and will be set forth in the written program agreement between FAS and the participant. FAS will also not reimburse unreasonable expenditures or any expenditure made prior to the approval of a proposal.

7. Intergovernmental Review: An intergovernmental review may be required. Applicants must contact their state's Single Point of Contact (SPOC) to comply with their state's process under Executive Order 12372 (see http://www.fws.gov/policy/library/rgeo12372.pdf). To ensure currency, the names and addresses of the SPOCs are maintained at the Office of Management and Budget's home page at http://www.whitehouse.gov/omb/grants_spoc.

C. Award Information

It is anticipated that FAS will award approximately 30 awards under the 2019 TASC, subject to programmatic approval and available funding. In general, all qualified proposals received before the submission deadline will compete for funding. FAS will review all proposals against the evaluation criteria contained in the program regulations.

Funding for successful proposals will be provided through specific agreements. These agreements will incorporate the proposal as approved by FAS. FAS must approve in advance any subsequent changes to the agreement. FAS or another Federal agency may be involved in the implementation of approved agreements.

Once an award reaches its completion date, FAS will confirm that the participant has provided all of the required reports and will review the reports for completeness and content. Once the required reports are approved, FAS will prepare a closeout letter that advises the participant of the award closeout procedures. Closeout letters must be countersigned and returned to FAS as soon as the final claim is submitted and paid, but within 60 days of receipt. Once the closeout procedures have been completed, any remaining funding on the agreement will be deobligated.

D. Application and Submission Information

1. Application through the Unified Export Strategy (UES) System: Organizations are strongly encouraged to submit their applications to FAS through the web-based UES application. Using the UES application process reduces paperwork and expedites FAS' processing and review time. Applicants planning to use the UES system must first contact FAS' Program Operations Division to obtain site access information, including a user ID and password. The UES internet-based application may be found at the following URL address: https://www.fas.usda.gov/ues/webapp/.

Although FAS highly recommends applying via the web-based UES, applicants have the option of submitting an application to FAS via email at podadmin@fas.usda.gov.

Applicants experiencing difficulty or otherwise needing assistance applying to the program should contact the Program Operations Division, Office of Trade Programs, Foreign Agricultural Service by courier: Room 6512, 1400 Independence Ave. SW, Washington, DC 20250, or by phone: (202) 720-4327, or by fax: (202) 720-9361, or by email: podadmin@fas.usda.gov.

2. Content and Form of Application Submission: All TASC proposals must contain complete information about the proposed projects as described in § 1487.5(b) of the TASC program regulations. Incomplete proposals or proposals that do not otherwise conform to this announcement will not be accepted for review.

3. Other Required Information: In accordance with the Office of Management and Budget's policy directive (68 FR 38402 (June 27, 2003)) regarding the need to identify entities that are receiving government awards, all applicants must submit a Dun and Bradstreet Data Universal Numbering System (DUNS) number. An applicant may request a DUNS number at no cost by calling the dedicated toll-free DUNS number request line at (866) 705-5711.

In addition, in accordance with 2 CFR part 25, each entity that applies to the TASC and does not qualify for an exemption under 2 CFR 25.110 must:

(i) Be registered in the System for Award Management (SAM) prior to submitting an application or plan; and

(ii) Maintain an active SAM registration with current information at all times during which it has an active Federal award or an application or plan under consideration by FAS; and

(iii) Provide its DUNS number in each application or plan it submits to FAS.

FAS may not make an award to an applicant until the applicant has complied with all applicable unique entity identifier and SAM requirements, and, if an applicant has not fully complied with the requirements by the time FAS is ready to make the award, FAS may determine that the applicant is not qualified to receive an award and use that determination as a basis for making an award to another applicant.

Similarly, in accordance with 2 CFR part 170, each eligible organization that applies to the TASC program and does not qualify for an exception under 2 CFR 170.110(b) must ensure it has the necessary processes and systems in place to comply with the applicable reporting requirements of 2 CFR part 170 should it receive TASC funding.

4. Submission Dates and Times: TASC proposals are reviewed on a rolling basis during the fiscal year as long as TASC funding is available as set forth below. FAS will track the time and date of receipt of all proposals:

• All proposals received via the UES or email by 5 p.m. Eastern Daylight Time, on Friday, June 8, 2018, will be considered for funding with other proposals received by that date;

• Proposals not approved for funding during the initial review period will be reconsidered for funding after the review period only if the applicant specifically requests such reconsideration in writing and only if funding remains available;

• Proposals received after 5 p.m. Eastern Daylight Time, on Friday, June 8, 2018, will be considered for funding in the order received only if funding remains available.

E. Application Review Information

1. Criteria: FAS follows the evaluation criteria set forth in § 1487.6 of the TASC regulations. Reviewers will evaluate according to the following criteria:

(1) The nature of the specific export barrier and the extent to which the proposal is likely to successfully remove, resolve, or mitigate that barrier (12.5%);

(2) The potential trade impact of the proposed project on market retention, market access, and market expansion, including the potential for expanding commercial sales in the targeted market (12.5%);

(3) The completeness and viability of the proposal. Among other things, this can include the cost of the project and the amount of other resources dedicated to the project, including cash, goods, and services of the U.S. industry and foreign third parties (15%);

(4) The ability of the organization to provide an experienced staff with the requisite technical and trade experience to execute the proposal (15%);

(5) The extent to which the proposal is targeted to a market in which the United States is generally competitive (17.5%);

(6) The degree to which time is essential to addressing specific export barriers (5%);

(7) The nature of the applicant organization, with a greater weight given to those organizations with the broadest base of producer representation (12.5%); and

(8) The effectiveness of the performance measures and potential of the performance measures to measure project results (10%).

2. Review and Selection Process: FAS will evaluate proposals for eligibility and will review each proposal deemed eligible against the criteria referenced above. The purpose of this review is to identify meritorious proposals, recommend an appropriate funding level for each proposal based upon these factors, and submit the proposals and funding recommendations to the Deputy Administrator, Office of Trade Programs. FAS may, when appropriate, request the assistance of other U.S. government subject area experts in evaluating the merits of a proposal.

In addition, FAS, prior to making a Federal award with a total amount of Federal share greater than the simplified acquisition threshold, is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FAS will consider any comments by the applicant, in addition to the other information in the designated integrity and performance system, in making a judgment about the applicant's integrity, business ethics, and record of performance under Federal awards when completing the review of risk posed by applicants as described in 2 CFR 200.205 “Federal awarding agency review of risk posed by applicants.”

F. Award Administration Information

1. Federal Award Notices: FAS will notify each applicant in writing of the final disposition of the submitted application. FAS will send an approval letter and agreement to each approved applicant. The approval letter and agreement will specify the terms and conditions applicable to the project, including the details of each project, responsibilities of the participant, levels of funding, timelines for implementation, and reporting requirements. All successful applicants for all grant and cooperative agreements are required to comply with the Standard Administrative Terms and Conditions, which are available online at: https://www.fas.usda.gov/grants/general_terms_and_conditions/default.asp. The applicable Standard Administrative Terms and Conditions will be for the last year specified at that URL, unless the application is to continue an award first awarded in an earlier year. In that event, the terms and conditions that apply will be those in effect for the year in which the award was originally made unless explicitly stated otherwise in subsequent mutually-agreed amendments to the award.

Before accepting the award the potential awardee should carefully read the approval letter and program agreement for instructions on administering the grant award and the terms and conditions associated with responsibilities under Federal Awards. Recipients must accept all conditions in this NOFA as well as any special terms and conditions in the approval letter and program agreement to receive an award under this program.

2. Reporting: TASC participants must provide interim and final performance reports for each approved project, each of which evaluate the TASC project using the performance measures presented in the approved proposal, as set forth in the written program agreement. An interim report must be submitted after each program year, and a separate final report no later than 90 days after the activity is completed. All performance reports must be submitted through the UES. In addition, a final financial report must be submitted no later than 90 days after completion of the project. This report must provide a final accounting of all project expenditures by cost category and include the accounting of actual contributions made to the project by the applicant and all other participating entities.

G. Federal Awarding Agency Contacts

1. Application Submission Contact(s) and Program Support: For additional information and assistance, contact the Program Operations Division, Office of Trade Programs, Foreign Agricultural Service, U.S. Department of Agriculture by courier: Room 6512, 1400 Independence Ave. SW, Washington, DC 20250, or by phone: (202) 720-4327, or by fax: (202) 720-9361, or by email: podadmin@fas.usda.gov.

2. Grants Management Contact(s): Eric Bozoian, Grants Management Specialist, Foreign Agricultural Service, United States, Department of Agriculture, Email: Eric.Bozoian@fas.usda.gov, Office: (202) 378-1054.

Signed at Washington, DC, on the 26th of April, 2018.
James Higgiston,
Acting Administrator, Foreign Agricultural Service, and Acting Vice President, Commodity Credit Corporation.

[FR Doc. 2018-09868 Filed 5-8-18; 8:45 am]

BILLING CODE 3410-10-P